INTERNATIONAL TRADE COMMISSION

[Inv. No. 332-488]

Global Beef Trade: Effects of Animal Health, Sanitary, Food Safety, and Other Measures on U.S. Beef Exports

AGENCY: United States International Trade Commission.

ACTION: Institution of investigation and scheduling of hearing.

SUMMARY: Following receipt on August 7, 2007, of a request from the United States Senate Committee on Finance (Committee) under section 332(g) of the Tariff Act of 1930 (19 U.S.C. 1332(g)), the Commission instituted investigation No. 332-488, Global Beef Trade: Effects of Animal Health, Sanitary, Food Safety, and Other Measures on U.S. Beef Exports.

DATES: October 15, 2007: Deadline for filing requests to appear at public hearing.

October 22, 2007: Deadline for filing pre-hearing briefs and statements.

November 15, 2007: Public hearing.

November 23, 2007: Deadline for filing post-hearing briefs and statements.

February 29, 2008: Deadline for all other submissions.

June 6, 2008: Transmittal of Commission report to the Senate Committee on Finance.

ADDRESSES: All Commission offices, including the Commission's hearing rooms, are located in the United States International Trade Commission Building, 500 E Street, SW., Washington, DC. All written submissions should be addressed to the Secretary, United States International Trade Commission, 500 E Street, SW., Washington, DC 20436. The public record for this investigation may be viewed on the Commission's electronic docket (EDIS) at http://edis.usitc.gov.

FOR FURTHER INFORMATION CONTACT: Project leader John N. Giamalva (202-205-3329 or john.giamalva@usitc.gov) or deputy project leader Joe Kowalski (202-205-3323 or joseph.kowalski@usitc.gov) for information specific to this investigation. For more information on legal aspects of the investigation, contact William Gearhart of the Commission's Office of the General Counsel at 202-205-3091 or william.gearhart@usitc.gov. The media should contact Margaret O'Laughlin, Office of External Relations at 202-205-1819 or margaret.olaughlin@usitc.gov. Hearing impaired individuals are advised that information on this matter can be obtained by contacting the TDD terminal at 202-205-1810. General information concerning the Commission may also be obtained by accessing its internet server (http://www.usitc.gov). The public record for this investigation may be viewed on the Commission's electronic docket (EDIS-ONLINE) at http://edis.usitc.gov. Persons with mobility impairments who will need special assistance in gaining access to the Commission should contact the Office of the Secretary at 202-205-2000.

Background: As requested by the Committee, the Commission will conduct an investigation under section 332(g) and prepare a report regarding the effects of animal health, sanitary, and food safety measures on beef trade between the United States and its major trading partners. The Commission's report will cover the period 2002-2007, to the extent data are available.

As requested by the Committee, the Commission will include the following information in its report, to the extent possible: (1) An overview of the U.S. and global markets for beef, including production, consumption, exports, and imports; (2) information on animal health, sanitary, and food safety measures facing U.S. and other major beef exporters in major destination markets; (3) information on other barriers to U.S. beef exports in major destination markets, including high tariffs, quotas, and import licensing and distribution systems; and (4) a qualitative and, to the extent possible, quantitative analysis of the economic effects of foreign animal health, sanitary, and food safety measures on U.S. beef exports. The Commission expects to deliver the report to the Committee by June 6, 2008.

Public Hearing: A public hearing in connection with this investigation will be held at the U.S. International Trade Commission Building, 500 E Street SW., Washington, DC, beginning at 9:30 a.m. on November 15, 2007. Requests to appear at the public hearing should be filed with the Secretary, no later than 5:15 p.m., October 18, 2007, in accordance with the requirements in the “Written Submissions” section below. In the event that, as of the close of business on October 18, 2007, no witnesses are scheduled to appear at the hearing, the hearing will be canceled. Any person interested in attending the hearing as an observer or nonparticipant may call the Secretary to the Commission (202-205-2000) after October 15, 2007, for information concerning whether the hearing will be held.

Written Submissions: In lieu of or in addition to participating in the hearing, interested parties are invited to submit written statements and briefs concerning this investigation. All written submissions, including requests to appear at the hearing, statements, and briefs, should be addressed to the Secretary. Pre-hearing briefs and statements should be filed not later than 5:15 p.m., October 22, 2007; and post-hearing briefs and statements should be filed not later than 5:15 p.m., November 23, 2007. All other submissions should be filed not later than 5:15 p.m., February 29, 2008. All written submissions must conform with the provisions of section 201.8 of the Commission's Rules of Practice and Procedure (19 CFR 201.8). Section 201.8 requires that a signed original (or a copy so designated) and fourteen (14) copies of each document be filed. In the event that confidential treatment of a document is requested, at least four (4) additional copies must be filed, in which the confidential information must be deleted (see the following paragraph for further information regarding confidential business information). The Commission's rules authorize filing submissions with the Secretary by facsimile or electronic means only to the extent permitted by section 201.8 of the rules (see Handbook for Electronic Filing Procedures, http://www.usitc.gov/secretary/fed_reg_notices/rules/documents/handbook_on_electronic_filing.pdf). Persons with questions regarding electronic filing should contact the Secretary (202-205-2000).

Any submissions that contain confidential business information must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available in the Office of the Secretary to the Commission for inspection by interested parties.

In its request letter, the Committee states that it intends to make the Commission's report available to the public, in its entirety, and asked that the Commission not include any confidential business information in the report it sends to the Committee. Consequently, the report that the Commission sends to the Committee will not contain any such information. Any confidential business information received by the Commission in this investigation and used in preparing the report will not be published in a manner that would reveal the operations of the individual or firm supplying the information.

Issued: September 13, 2007.
By order of the Commission.
Marilyn R. Abbott,
Secretary to the Commission.

[FR Doc. E7-18407 Filed 9-18-07; 8:45 am]

BILLING CODE 7020-02-P